DEPARTMENT OF HOUSING AND URBAN DEVELOPMENT

[Docket No. FR-4900-FA-24]

Announcement of Funding Awards for Fiscal Year 2004 Hispanic-Serving Institutions Assisting Communities Program

AGENCY: Office of the Assistant Secretary for Policy Development and Research, HUD.

ACTION: Announcement of funding awards.

SUMMARY: This document identifies the entities selected for funding under the Fiscal Year 2004 Hispanic-Serving Institutions Assisting Communities program (HSIAC). The HSIAC program assists Hispanic-Serving Institutions of Higher Education expand their role and effectiveness in addressing community development needs in their localities, consistent with the purposes of HUD's Community Development Block Grant program (CDBG). This notice is published in accordance with section 102(a)(4)(C) of the Department of Housing and Urban Development Reform Act of 1989.

FOR FURTHER INFORMATION CONTACT: Susan Brunson, Office of University Partnerships, Department of Housing and Urban Development, Room 8106, 451 Seventh Street, SW., Washington, DC 20410, telephone (202) 708-3061, ext. 3852. To provide service for persons who are hearing- or speech-impaired, this number may be reached through TTY by Dialing the Federal Information Relay Service on 800-877-8339 or 202-708-1455. (Telephone numbers, other than “800” TTY numbers, are not toll free).

SUPPLEMENTARY INFORMATION: The Hispanic-Serving Institutions Assisting Communities program was approved by Congress under Section 107 of the Community Development Block Grant appropriations for the Fiscal Year 2004, and is administered by the Assistant Secretary for Policy Development and Research, Office of University Partnerships. In addition to the HSIAC program, the Office of University Partnerships administers HUD's ongoing grant programs to institutions of higher education as well as creates initiatives through which colleges and universities can bring their traditional missions of teaching, research, service, and outreach to bear on the pressing local housing and development problems in their communities.

The HSIAC program provides funds for a wide range of CDBG-eligible activities, including housing rehabilitation and financing, property demolition or acquisition, public facilities, economic development, business entrepreneurship, and fair housing programs.

The Catalog Federal Domestic Assistance number for this program is 14.514.

On May 14, 2004 (69 FR 27053), HUD published a Notice of Funding Availability (NOFA) announcing the availability of $6.95 million in Fiscal Year 2004 for the HSIAC program. The Department reviewed, evaluated, and scored the applications received based on the criteria in the NOFA. As a result, HUD has funded the applications below. In accordance with section 102(a)(4)(C) of the Department of Housing and Urban Development Reform Act of 1989 (103 Stat. 1987, 42 U.S.C. 3545), HUD is publishing details concerning the recipients of funding awards, as set forth below.

List of Awardees for Grant Assistance Under the FY 2004 Hispanic-Serving Institutions Assisting Communities Program Funding Competition, by Institution, Address and Grant Amount

Region VI

1. Regents of the University of New Mexico-Taos, Mr. Philip Chandler Barrett, Regents of the University of New Mexico-Taos, 115 Civic Plaza Drive, Taos, NM 85751. Grant: $600,0000.

2. The University of Texas El Paso, Dr. Paul Maxwell, The University of Texas El Paso, 500 West University, El Paso, TX 79968. Grant: $599,539.

3. Regents of New Mexico State University, Dr. Anna M. Chieffo, Regents of New Mexico State University, 1620 Standley Drive, Academic Research A, Room 110, Las Cruces, NM 88003. Grant: $600,000.

4. Houston Community College System, Mr. Andy Montez, Houston Community College System, 3100 Main, Suite 100, Houston, TX 77002. Grant: $597,149.

5. Northern New Mexico Community College, Ms. Bernadette Chavira-Merriman, Northern New Mexico Community College, 921 Paseo de Onate, Espanola, NM 87532. Grant: $600,000.

Region VIII

6. Adams State College, Ms. Mary Carmel Hoffman, Adams State College, 208 Edgemont Street, Room 115, Alamosa, CO 81102. Grant: $600,000.

7. Otero Junior College, Mr. Gary Ashida, Otero Junior College, 1802 Colorado Avenue, La Junta, CO 81050. Grant: $596,709.

Region IX

8. Allan Hancock College, Ms. Elaine Healy, Allan Hancock College, 800 South College Drive, Santa Maria, CA 93454. Grant: $600,000.

9. West Hills Community College for West Hills College Lemoore, Ms Patty Scroggins, West Hills Community College for West Hills College Lemoore, 9900 Cody Avenue, Coalinga, CA 93210. Grant: $365,303.

Region X

10. Rancho Community College District/Santa Ana College, Ms. Lori Brown, Rancho Community College District/Santa Ana College, 2323 North Broadway, Santa Ana, CA 92706. Grant: $600,000.

11. Imperial Valley College, Mr. Gonazalo Huerta, Imperial Valley College, 380 East Aten Road, Imperial CA 92251. Grant: $600,000.

12. Central Arizona College, Mr. Hugo Steincamp, Central Arizona College, 8470 North Overfield Road, Coolidge, AZ 85228. Grant: $600,000.

Dated: October 15, 2004.
Dennis C. Shea,
Assistant Secretary for Policy Development and Research.

[FR Doc. 04-24000 Filed 10-26-04; 8:45 am]

BILLING CODE 4210-62-P